DEPARTMENT OF THE INTERIOR

National Park Service

[NPS-WASO-NAGPRA-20709; PPWOCRADN0-PCU00RP14.R50000]

Notice of Inventory Completion: Kansas State Historical Society, Topeka, KS

AGENCY: National Park Service, Interior.

ACTION: Notice.

SUMMARY: The Kansas State Historical Society has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Kansas State Historical Society. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Kansas State Historical Society at the address in this notice by May 31, 2016.

ADDRESSES: Dr. Robert J. Hoard, Kansas State Historical Society, 6425 SW. 6th Avenue, Topeka, KS 66615-1099, telephone (785) 272-8681 extension 269, email rhoard@kshs.org.

SUPPLEMENTARY INFORMATION: Notice is here given in accordance with the Native American Graves Protection and Repatriation Act (NAGPRA), 25 U.S.C. 3003, of the completion of an inventory of human remains and associated funerary objects under the control of the Kansas State Historical Society, Topeka, KS. The human remains and associated funerary objects were removed from Doniphan, Pottawatomie, and Shawnee Counties, KS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kansas State Historical Society professional staff in consultation with representatives of the Kaw Nation, Oklahoma.

History and Description of the Remains

On an unknown date, human remains representing, at minimum, one individual were removed from the Doniphan site, 14DP2, in Doniphan County, KS. The human remains were transferred in April 1990 to the Kansas State Historical Society by the Wallingford Historical Society of Wallingford, Connecticut. The Wallingford Historical Society acquired the human remains as a donation from Harold Stearns. Stearns had received the human remains around 1917 as a gift from George Remsburg, a well-known collector of Indian artifacts in the early 20th century. These human remains are identified by the designation UBS 1989-19B. No known individuals were identified. No associate funerary objects are present.

The human remains were packaged in a box with a paper museum label that indicated the human remains were from “the Doniphan town site.” This is almost certainly the well documented historic Kaw burial site known as the Doniphan site, 14DP2. The human remains are therefore interpreted as being affiliated with the Kaw Nation.

In 1987, human remains representing, at minimum, five individuals were removed from the Doniphan site, 14DP2, in Doniphan County, KS, and designated UBS 1990-28. These human remains were exposed by erosion and excavated by Kansas State Historical staff, done with the agreement of Bill Mehojah, then Chairman of the Kaw Tribe of Oklahoma. No known individuals were identified. There are 132 associated funerary objects: 1 Ceramic vessel, 18 beads, 1 pipe, 1 tablet, 2 Catlinite pieces, 1 bone awl, 1 bivalve shell, 1 gunflint, 1 projectile point, 35 pottery sherds, 71 flakes, 1 peach seed, 1 vial of squash seeds, 9 black seeds, daub, 2 cinders, charcoal, 1 sack of fibers, 1 geode, 1 crockery sherd, 2 abraders, both broken; and 1 vial rodent bones.

In 1936, human remains representing, at minimum, two individuals were removed from the Doniphan site in Doniphan County, KS, by A.T. Hill and John Champe of the Nebraska State Historical Society. The human remains were transferred to the Kansas State Historical Society in 1987 and designated UBS 1991-100. The human remains were identified as one adult and one juvenile of indeterminate sex. No known individuals were identified. No associated funerary objects are present.

In the 1960s, human remains representing, at minimum, one individual was removed from the Doniphan site in Doniphan County, KS. The human remains consist of an adult cranium. The human remains were first taken to Atchison County Historical Society, and then further transferred to Kansas State Historical Society and designated UBS 1991-104. The human remains were then sent to Kansas State University for analysis, and were returned to the Kansas State Historical Society in 1998. No known individuals were identified. No associated funerary objects are present.

In or around 1949, human remains representing, at minimum, two individuals were found on the Ford farm, presumably the Doniphan site, in Doniphan County, KS. A note with the human remains states that they were found exposed. The human remains were originally in the collections of Benedictine College in Atchison, KS. They were transferred to the Kansas State Historical Society in 1992, designated UBS 1992-24-6 (24A) and analyzed by physical anthropologist Dr. Michael Finnegan in 1997. No known individuals were identified. No associated funerary objects are present.

On an unknown date, human remains representing, at minimum, two individuals were removed from the Blue Earth Village site, site 14PO24, in Pottawatomie County, KS. The human remains were donated to the Kansas State Historical Society in 1881 by private collector William J. Griffing and designated UBS 1991-66. No known individuals were identified. No associated funerary objects are present.

In 1937, human remains representing, at minimum, one individual were removed from a site presumed to be the Blue Earth Village site in Pottawatomie County, KS. The human remains were collected by A.T. Hill of the Nebraska State Historical Society. In 1991 the human remains were donated to the Kansas State Historical Society and designated UBS 1991-65. No known individuals were identified. The 9 associated funerary objects are 5 brass buttons, 1 lot of metal lace fragments, 1 lot of wood splinters, 1 piece red pigment, 1 lot of unidentifiable, decomposing material, possibly leather.

In 1986, human remains representing, at minimum, three individuals were removed from site 14SH339, Shawnee County, KS. The human remains were unearthed as a homeowner was building an addition to their house. The human remains were brought to the Kansas State Historical Society in 1987 and designated UBS 1989-5.

Osteological analysis was conducted by Dr. Eileen Burneau, chief pathologist, Kansas Bureau of Investigation; Dr. Kim Schneider, physical anthropologist, Wichita State University, and Dr. Michael Finnegan, physical anthropologist, Kansas State University. The associated funerary objects with the human remains date to the 1800s, and the site is on a high ridge overlooking the documented location of the American Chief Village, occupied by the Kaw during the period of A.D. 1832-1846. It is believed that these human remains and associated funerary objects are affiliated with the Kaw Nation of Oklahoma. No known individuals were identified. The 7 associated funerary objects are 1 bead, 1 railroad spike, 1 axe head, 1 piece of cloth with metal, 1 piece of wood, 1 sack of hair or fibers, and 1 sack of fabric.

Determinations Made by the Kansas State Historical Society

Officials of the Kansas State Historical Society have determined that:

• Pursuant to 25 U.S.C. 3001(9), the human remains described in this notice represent the physical remains of 17 individuals of Native American ancestry.

• Pursuant to 25 U.S.C. 3001(3)(A), the 148 objects described in this notice are reasonably believed to have been placed with or near individual human remains at the time of death or later as part of the death rite or ceremony.

• Pursuant to 25 U.S.C. 3001(2), there is a relationship of shared group identity that can be reasonably traced between the Native American human remains and associated funerary objects and the Kaw Nation, Oklahoma.

Additional Requestors and Disposition

Lineal descendants or representatives of any Indian tribe or Native Hawaiian organization not identified in this notice that wish to request transfer of control of these human remains and associated funerary objects should submit a written request with information in support of the request to Dr. Robert J. Hoard, Kansas State Historical Society, 6425 SW. 6th Avenue, Topeka, KS 66615-1099, telephone (785) 272-8681 extension 269, email rhoard@kshs.org, by May 31, 2016. After that date, if no additional requestors have come forward, transfer of control of the human remains the Kaw Nation may proceed.

The Kansas State Historical Society is responsible for notifying the Kaw Nation, Oklahoma that this notice has been published.

Dated: March 24, 2016.
Melanie O'Brien,
Manager, National NAGPRA Program.

[FR Doc. 2016-10067 Filed 4-28-16; 8:45 am]

BILLING CODE 4312-50-P